COMMITTEE FOR THE IMPLEMENTATION OF TEXTILE AGREEMENTS

Denial of Commercial Availability Request under the United States - Caribbean Basin Trade Partnership Act (CBTPA)

August 18, 2004.

AGENCY: The Committee for the Implementation of Textile Agreements (CITA).

ACTION: Denial of the request alleging that certain dyed, two way stretch twill woven fabric, for use in apparel articles, cannot be supplied by the domestic industry in commercial quantities in a timely manner under the CBTPA.

SUMMARY: On June 18, 2004 the Chairman of CITA received a petition from Pressman-Gutman Co., Inc. alleging that certain dyed, two way stretch twill woven fabric, of three ply yarns composed of 62 percent staple polyester, 33 percent staple rayon and 5 percent filament spandex, of stated specifications, classified in subheading 5515.11.0040 of the Harmonized Tariff Schedule of the United States (HTSUS), for use in apparel articles, cannot be supplied by the domestic industry in commercial quantities in a timely manner. It requested that apparel of such fabrics be eligible for preferential treatment under the CBTPA. Based on currently available information, CITA has determined that these subject fabrics can be supplied by the domestic industry in commercial quantities in a timely manner and therefore denies the request.

FOR FURTHER INFORMATION CONTACT: Janet Heinzen, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

BACKGROUND:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On June 18, 2004, the Chairman of CITA received a petition from Pressman-Gutman Co., Inc. alleging that certain dyed, two way stretch twill woven fabric, of three ply yarns composed of 62 percent staple polyester, 33 percent staple rayon and 5 percent filament spandex, of stated specifications, classified in HTSUS subheading 5515.11.0040, cannot be supplied by the domestic industry in commercial quantities in a timely manner and requesting quota- and duty-free treatment under the CBTPA for apparel articles that are both cut and sewn in one or more CBTPA beneficiary countries from such fabrics.

On June 25, 2004, CITA solicited public comments regarding this petition (69 FR ), particularly with respect to whether these fabrics can be supplied by the domestic industry in commercial quantities in a timely manner. On July 13, 2004, CITA and the Office of the U.S. Trade Representative offered to hold consultations with the relevant Congressional committees. We also requested the advice of the U.S. International Trade Commission and the relevant Industry Trade Advisory Committees.

Based on the information provided, including review of the petition, public comments and advice received, and our knowledge of the industry, CITA has determined that certain dyed, two way stretch twill woven fabric, described above, classified in HTSUS subheading 5515.11.0040, for use in apparel articles, can be supplied by the domestic industry in commercial quantities in a timely manner. Pressman-Gutman's request is denied.

James C. Leonard III,
Chairman, Committee for the Implementation of Textile Agreements.

[FR Doc.04-19289 Filed 8-23-04; 8:45 am]

BILLING CODE 3510-DR-S